DEPARTMENT OF HEALTH AND HUMAN SERVICES

National Institutes of Health

National Institute of General Medical Sciences; Amended Notice of Meeting

Notice is hereby given of a change in the meeting of the National Institute of General Medical Sciences Special Emphasis Panel, Review of PRAT and K99/R00 MOCSAC Applications. March 04, 2024, 10:30 a.m. to March 05, 2024, 06:30 p.m., National Institute of General Medical Sciences, Natcher Building, 45 Center Drive, Bethesda, Maryland, 20892 which was published in the Federal Register on January 19, 2024, FR. Doc. 2024-00950, 89 FR 3671.

This notice is being amended to change the name of the panel from Review of PRAT and K99/R00 MOCSAC Applications to the Review of PRAT and K99/R00 MOSAIC Applications. The meeting date, time, and location will stay the same. The meeting is closed to the public.

Dated: February 2, 2024.
Miguelina Perez,
Program Analyst, Office of Federal Advisory Committee Policy.

[FR Doc. 2024-02582 Filed 2-7-24; 8:45 am]

BILLING CODE 4140-01-P